DEPARTMENT OF HEALTH AND HUMAN SERVICES

Notice of Intent To Establish the Pain Management Best Practices Inter-Agency Task Force and Request for Nominations for Task Force Members

AGENCY: Office of the Assistant Secretary for Health, Office of the Secretary, U.S. Department of Health and Human Services.

ACTION: Notice.

SUMMARY: The U.S. Department of Health and Human Services (HHS) hereby gives notice of its intent to establish the Pain Management Best Practices Inter-Agency Task Force (Task Force) pursuant to section 101 of the Comprehensive Addiction and Recovery Act of 2016. The Task Force will consist of representatives of specific Federal agencies and non-federal individuals and entities who represent diverse disciplines and views. The Task Force will provide advice and recommendations for development of best practices for pain management and prescribing pain medication and a strategy for disseminating such best practices to relevant Federal agencies and the general public.

Through this notice, HHS is also requesting nominations of individuals who are interested in being considered for appointment to the Task Force. Resumes or curricula vitae from qualified individuals who wish to be considered for appointment as a member of the Task Force are currently being accepted.

DATES: Nominations must be received no later than close of business September 27, 2017.

ADDRESSES: All nominations must be submitted via email to the attention of Vanila M. Singh, M.D., Chief Medical Officer at PainTaskforce@hhs.gov.

FOR FURTHER INFORMATION CONTACT: Vanila M. Singh, M.D., Chief Medical Officer, Office of the Assistant Secretary for Health; U.S. Department of Health and Human Services; Telephone: (202) 205-3841; Fax: (202) 205-2107; Email address: PainTaskforce@hhs.gov. When the charter for the Task Force has been filed with the appropriate Congressional committees and the Library of Congress, this document will be made available online. Web site information about activities of the Task Force will be provided when the URL has been identified. The charter will include detailed information about the purpose, function, and structure of the Task Force.

SUPPLEMENTARY INFORMATION: Section 101 of the Comprehensive Addiction and Recovery Act of 2016 (Pub. L. 114-198) (CARA) authorizes the Secretary of HHS, in cooperation with the Secretary of Veterans Affairs and the Secretary of Defense, to convene the Task Force. The Task Force will consist of representatives of specific Federal agencies and non-federal individuals and entities who represent diverse disciplines and views. The Task Force will identify, review, and determine whether there are gaps or inconsistencies in best practices among Federal agencies; propose updates to best practices and recommendations on addressing gaps or inconsistencies; provide the public with an opportunity to comment on any proposed updates and recommendations; and develop a strategy for disseminating information about best practices.

The Task Force will provide advice and recommendations for development of best practices for pain management and prescribing pain medication and a strategy for disseminating such best practices to relevant Federal agencies and the general public. The functions of the Task Force will be solely advisory in nature. The Task Force will be established as a non-discretionary Federal advisory committee.

When the charter for the Task Force is approved, it will be filed with the appropriate Congressional committees and the Library of Congress; hard copies of this document will be made available upon request. The approved charter will also be accessible online.

Objectives and Scope of Activities. The Secretary of HHS, in cooperation with the Secretary of Veterans Affairs and the Secretary of Defense, shall convene the Task Force to identify, review, and determine whether there are gaps or inconsistencies in best practices among Federal agencies; propose updates to best practices and recommendations on addressing gaps or inconsistencies; provide the public with an opportunity to comment on any proposed updates and recommendations; and develop a strategy for disseminating information about best practices.

Membership and Designation. The Task Force shall consist of not more than 30 members. The Assistant Secretary for Health of HHS shall select the Chair. The Chair may select a Vice-chair from among Task Force members. The members of the Task Force shall include currently licensed and practicing physicians, dentists, and non-physician prescribers; currently licensed and practicing pharmacists and pharmacies; experts in the fields of pain research and addiction research, including adolescent and young adult addiction; experts on the health of, and prescription opioid use disorders in, members of the Armed Forces and veterans; and experts in the field of minority health. The members of the Task Force shall also include individuals who are appointed to serve under CARA subsection 101(c)(5) as representatives of pain management professional organizations; the mental health treatment community; the addiction treatment community, including individuals in recovery from substance use disorder; pain advocacy groups, including patients; veteran service organizations; groups with expertise on overdose reversal, including first responders; State medical boards; and hospitals. The Secretary shall ensure that the membership of the Task Force includes individuals who represent rural and underserved areas. The composition of the Task Force shall also include federal members who shall serve as representatives for the following departments and agency: The Department of Health and Human Services and relevant HHS agencies, the Department of Veterans Affairs, the Department of Defense, and the Office of National Drug Control Policy.

Members who are not officers or employees of the United States Government and who are not appointed as representative members under CARA subsection 101(c)(5) shall be classified as special government employees (SGEs). Members of the Task Force who are officers or employees of the United States Government shall be appointed to serve at the discretion of the head of the respective Federal departments and agency. All members shall be appointed to serve for the duration of time that the Task Force is authorized to operate. Any member who is appointed to fill the vacancy of an unexpired term shall be appointed to serve for the remainder of that term.

Pursuant to advance written agreement, members of the Task Force who are not officers or employees of the United States Government shall receive no stipend for the advisory service that they render as members of the Task Force. Members appointed as SGEs shall receive per diem and reimbursement for travel expenses incurred in relation to performing duties for the Task Force, as authorized by law under 5 U.S.C. 5703 for persons who are employed intermittently to perform services for the Federal government and in accordance with Federal travel regulations. Members appointed as representatives of a designated entity under CARA subsection 101(c)(5) may be allowed to receive per diem and reimbursement for any applicable expenses that are incurred to conduct business related to the Task Force. Federal employees assigned as advisory committee members or staff members remain covered under their current compensation system.

Estimated Number and Frequency of Meetings. The Task Force shall meet not less than two times a calendar year, depending upon the availability of funds. The meetings may be conducted by teleconference or videoconference at the discretion of the Designated Federal Officer. The meetings shall be open to the public, except as determined otherwise by the Secretary, or other official to whom authority has been delegated, in accordance with the guidelines under Government in the Sunshine Act, 5 U.S.C. 552b(c). Notice of all meetings shall be provided to the public in accordance with the Federal Advisory Committee Act. Meetings shall be conducted and records of the proceedings shall be kept, as required by applicable laws and departmental policies. A quorum is required for the Task Force to meet to conduct business. A quorum shall consist of a majority of the Task Force's members. When the Secretary or the Secretary's designee determines that a meeting shall be closed or partially closed to the public, in accordance with provisions of Government in the Sunshine Act, 5 U.S.C. 552b(c), then a report shall be prepared by the Designated Federal Officer that includes, at a minimum, a list of members and their business addresses, the Task Force's functions, date and place of the meeting, and a summary of the Task Force's activities and recommendations made during the fiscal year. A copy of the report shall be provided to the Department Committee Management Officer.

Nominations: Nominations, including self-nominations, of individuals who have the specified expertise and knowledge will be considered for appointment as members of the Task Force. A nomination should include, at a minimum, the following for each nominee: (1) A letter of nomination that clearly states the name and affiliation of the nominee, the basis for the nomination, and a statement from the nominee that indicates that the individual is willing to serve as a member of the Task Force, if selected; (2) the nominator's name, address, and daytime telephone number, and the address, telephone number, and email address of the individual being nominated; and (3) a current copy of the nominee's curriculum vitae or resume, which should be limited to no more than 10 pages.

Every effort will be made to ensure that the composition of the Task Force includes individuals from various geographic locations, including rural and underserved areas; racial and ethnic minorities; genders, and persons living with disabilities.

Individuals other than officers or employees of the United States government being considered for appointment as members of the Task Force will be required to complete and submit a report of their financial holdings. An ethics review must be conducted to ensure that individuals appointed as members of the Task Force are not involved in any activity that may pose a potential conflict of interest for the official duties that are to be performed. This is a federal ethics requirement that must be satisfied upon entering the position and annually throughout the established term of appointment on the Task Force.

Authority: Section 101 of the Comprehensive Addiction and Recovery Act of 2016 (Pub. L. 114-198) authorizes establishment of the Pain Management Best Practices Inter-Agency Task Force. The Task Force will be governed by provisions of the Federal Advisory Committee Act, Public Law 92-463, as amended (5 U.S.C. App. 2), which sets forth standards for the formation and use of Federal advisory committees.

Dated: August 21, 2017.
Donald Wright,
Acting Assistant Secretary for Health.

[FR Doc. 2017-18182 Filed 8-25-17; 8:45 am]

BILLING CODE 4150-28-P